DEPARTMENT OF THE INTERIOR

Bureau of Indian Affairs

Tribal Listening Sessions on Sacred Sites on Federal Lands

AGENCY: Bureau of Indian Affairs, Interior.

ACTION: Notice.

SUMMARY: Indian Affairs will conduct a listening session with Indian tribes to obtain oral and written comments concerning sacred sites located on Federal lands. This session in Tulsa, Oklahoma, is the sixth in a series of listening sessions held since the beginning of August.

DATES: The listening session will be held Tuesday, September 18, 2012. Written input/suggestions are due September 21, 2012.

ADDRESSES: See the SUPPLMENTARY INFORMATION section of this notice for the location of the tribal listening session. Submit comments by email to: consultation@bia.gov or by U.S. mail to: Office of the Assistant Secretary—Indian Affairs, U.S. Department of the Interior, attn: Dion Killsback, Mail Stop 4141 MIB, 1849 C Street NW., Washington, DC 20240.

FOR FURTHER INFORMATION CONTACT: Dion Killsback, Counselor to the Assistant Secretary—Indian Affairs, (202) 208-6939.

SUPPLEMENTARY INFORMATION: The Department, through the Office of the Assistant Secretary—Indian Affairs, intends to develop a policy to strengthen the protection of sacred sites on Federal lands. For many years the Department has received input on sacred sites and to that end, the Department is seeking specific input on, but not limited to, the following topics regarding sacred sites:

• Meanings of sacred sites and whether the Departments should attempt to define the term “sacred site” more definitively;

• Recognized leaders of tribal government and tribal spiritual leaders who should be included in the Department's determination of whether a site is considered “sacred” by a tribe.

• Cultural and social views of existing Departmental practices or policies that should be revised to protect sacred sites and steps necessary to make appropriate revisions;

• Development of potential Departmental practices or policies to protect sacred sites;

• How the Department should facilitate tribal access to tribally provided information regarding sacred sites.

The tribal listening session will be held at the following date and location. Please arrive early to allow time for security clearance and bring identification:

Date | Time | Venue
September 18, 2012 | 9:00 a.m.-12:30 p.m. | Federal Building, 3rd Floor Courtroom, 333 South Boulder Avenue, Tulsa, Oklahoma 74103.

Dated: August 31, 2012.
Donald E. Laverdure,
Acting Assistant Secretary—Indian Affairs.

[FR Doc. 2012-22355 Filed 9-10-12; 8:45 am]

BILLING CODE 4310-02-P